DEPARTMENT OF DEFENSE

Department of the Army; Corps of Engineers

Intent To Prepare a Draft Environmental Impact Statement for the Montauk Point Storm Damage Reduction Project, Town of East Hampton, Suffolk County, Long Island, NY

AGENCY: Department of the Army, U.S. Army Corps of Engineers, DoD.

ACTION: Notice of intent.

SUMMARY: The U.S. Army Corps of Engineers (USACE), New York District, is preparing a Draft Environmental Impact Statement (DEIS) to ascertain compliance with and to lead to the production of a National Environmental Policy Act (NEPA) document in accordance with the President's Council of Environmental Quality (CEQ) Rules and Regulations, as defined and amended in 40 Code of Federal Regulations (CFR), parts 1500-1508, USACE principals and guidelines as defined in Engineering Regulation (ER) 1105-2-100, and other applicable Federal and State environmental laws for the proposed Storm Damage Reduction Project at the Montauk Point Lighthouse in Montauk, New York. The study area consists of the Montauk Point Lighthouse bluff in the Town of East Hampton, Long Island, New York.

FOR FURTHER INFORMATION CONTACT: Christopher Ricciardi, Project Archaeologist, Planning Division, U.S. Army Corps of Engineers, New York District, 26 Federal Plaza, Room 2131, New York, New York, 10278-0090 at (212) 264-0204 or at christopher.g.ricciardi@usace.army.mil.

SUPPLEMENTARY INFORMATION: This study is authorized by a U.S. House of Representatives Resolution adopted May 15, 1991 to provide, in part, storm damage protection for the bluff and lighthouse.

1. A public scoping meeting was held in November of 2001 and the results were collected in the Public Scoping Document. These results are available for review and additional scoping comments. All results from public and agency scoping coordination will be addressed in the DEIS. Parties interested in receiving the Scoping Document should contact Christopher Ricciardi at the above address.

2. A DEIS is due for completion by March 2003.

3. Federal agencies interested in participating as a Cooperating Agency are requested to submit a letter of intent to COL John B. O'Dowd, District Engineer, at the above address.

Luz D. Ortiz,
Army Federal Register Liaison Officer.

[FR Doc. 02-13042 Filed 5-23-02; 8:45 am]

BILLING CODE 3710-06-M